NUCLEAR REGULATORY COMMISSION

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

1. Type of submission, new, revision, or extension: Extension.

2. The title of the information collection: 10 CFR Part 4, “Nondiscrimination in Federally Assisted Commission Programs”.

3. The form number if applicable: Not Applicable.

4. How often the collection is required: On occasion and annually.

5. Who will be required or asked to report: Recipients of Federal Financial Assistance provided by the NRC (including 33 Agreement States, 6 Educational Institutions and 15 Other Nonprofit Organizations).

6. An estimate of the number of annual responses: 108 (54 responses + 54 recordkeepers).

7. The estimated number of annual respondents: 54.

8. An estimate of the total number of hours needed annually to complete the requirement or request: 432 hours (270 hrs for reporting or 5 hours per response and 162 hours for recordkeeping or 3 hours per recordkeeper).

9. An indication of whether Section 3507(d), Pub. L. 104-13 applies: N/A.

10. Abstract: Recipients of NRC financial assistance provide data to demonstrate assurance to NRC that they are in compliance with non-discrimination regulations and policies.

A copy of the final supporting statement may be viewed free of charge at the NRC Public Document Room, One White Flint North, 11555 Rockville Pike, Room O-1 F21, Rockville, MD 20852. OMB clearance requests are available at the NRC worldwide web site: http://www.nrc.gov/public-involve/doc-comment/omb/index.html. The document will be available on the NRC home page site for 60 days after the signature date of this notice.

Comments and questions should be directed to the OMB reviewer listed below by August 25, 2004. Comments received after this date will be considered if it is practical to do so, but assurance of consideration cannot be given to comments received after this date.

OMB Desk Officer, Office of Information and Regulatory Affairs (3150-0053), NEOB-10202, Office of Management and Budget, Washington, DC 20503.

Comments can also be submitted by telephone at (202) 395-3087.

The NRC Clearance Officer is Brenda Jo. Shelton, 301-415-7233.

Dated at Rockville, Maryland, this 20th day of July, 2004.
For the Nuclear Regulatory Commission.
Beth St. Mary,
Acting NRC Clearance Officer, Office of the Chief Information Officer.

[FR Doc. 04-16898 Filed 7-23-04; 8:45 am]

BILLING CODE 7590-01-P